DEPARTMENT OF LABOR

Occupational Safety and Health Administration

[Docket No. OSHA-2007-0010]

Federal Advisory Council on Occupational Safety and Health

AGENCY: Occupational Safety and Health Administration (OSHA), Labor.

ACTION: Announcement of meeting.

SUMMARY: The Federal Advisory Council on Occupational Safety and Health (FACOSH) will meet March 1, 2007, in Washington, DC.

DATES:

FACOSH meeting: FACOSH will meet from 10 a.m. to 4 p.m., Thursday, March 1, 2007.

Submission of comments and requests to speak: Comments and requests to speak at the FACOSH meeting must be received by February 22, 2007.

ADDRESSES:

FACOSH meeting: FACOSH will meet in Rooms N-3437 A/B/C, U.S. Department of Labor, 200 Constitution Avenue, NW., Washington, DC 20210.

Submission of comments and requests to speak: Comments and requests to speak at the FACOSH meeting, identified by OSHA Docket No. 2007-0010, may be submitted by any of the following methods:

Electronically: You may submit materials, including attachments, electronically at: http://www.regulations.gov, the Federal eRulemaking Portal. Follow the online instructions for making submissions.

Facsimile: If your submission, including attachments, is not longer than 10 pages, you may fax it to the OSHA Docket Office at (202) 693-1648.

Mail, express delivery, hand delivery, messenger or courier service: Submit three copies of your submissions to the OSHA Docket Office, Room N-2625, U.S. Department of Labor, 200 Constitution Avenue, NW., Washington, DC 20210; telephone (202) 693-2350 (OSHA's TTY number is (877) 889-5627). Deliveries (hand, express mail, messenger and courier service) are accepted during the Department of Labor's and Docket Office's normal business hours, 8:15 a.m.-4:45 p.m., e.t.

Instructions: All submissions must include the Agency name and docket number for this Federal Register notice (Docket No. OSHA-2007-0010). Submissions in response to this Federal Register notice, including personal information provided, will be posted without change at: http://www.regulations.gov. Therefore, OSHA cautions interested parties about submitting personal information such as social security numbers and birth dates. Because of security-related procedures, submissions by regular mail may result in a significant delay in their receipt. Please contact the OSHA Docket Office, at the address above, for information about security procedures for making submissions by hand delivery, express delivery, and messenger or courier service. For additional information on submitting comments and requests to speak, see the SUPPLEMENTARY INFORMATION section below.

Docket: To read or download submissions, go to http://www.regulations.gov. All documents in the docket are listed in the http://www.regulations.gov index. Although listed in the index, some documents (e.g., copyrighted material) are not publicly available to read or download through http://www.regulations.gov. All submissions, including copyrighted material, are available for inspection and copying at the OSHA Docket Office at the address above.

FOR FURTHER INFORMATION CONTACT: For general information: Diane Brayden, Director, OSHA, Office of Federal Agency Programs, U.S. Department of Labor, Room N-3622, 200 Constitution Avenue, NW., Washington, DC 20210; telephone (202) 693-2122; fax (202) 693-1685; e-mail ofap@dol.gov. For special accommodations for the FACOSH meeting: Veneta Chatmon, OSHA, Office of Communications, Room N-3647, U.S. Department of Labor, 200 Constitution Avenue, NW., Washington, DC 20210; telephone (202) 693-1999.

SUPPLEMENTARY INFORMATION: FACOSH will meet Thursday, March 1, 2007, in Washington, DC. All FACOSH meetings are open to the public.

FACOSH is authorized by section 19 of the Occupational Safety and Health Act of 1970 (OSH Act) (29 U.S.C. 668), 5 U.S.C. 7902, and Executive Order 12196 to advise the Secretary of Labor on all matters relating to the occupational safety and health of Federal employees (Ex. 2). This includes providing advice on how to reduce and keep to a minimum the number of injuries and illnesses in the Federal workforce and how to encourage the establishment and maintenance of effective occupational safety and health programs in each Federal Department and Agency (Ex. 3).

The tentative agenda for the FACOSH meeting includes:

• Safety, Health and Return-to-Employment (SHARE) Initiative,

• Recordkeeping,

• Training,

• Field Federal Safety and Health Councils, and

• Facility Safety and Health Design.

FACOSH meetings are transcribed and detailed minutes of the meetings are prepared. Meeting transcripts and minutes are included in the official record of FACOSH meetings.

Interested parties may submit a request to make an oral presentation to FACOSH by one of the methods listed in the ADDRESSES section above. The request must state the amount of time requested to speak, the interest represented (e.g., business or organization name), if any, and a brief outline of the presentation. Requests to address FACOSH may be granted as time permits and at the discretion of the FACOSH chair.

Interested parties also may submit comments, including data and other information, using any of the methods listed in the ADDRESSES section above. OSHA will provide all submissions to FACOSH members.

Individuals who need special accommodations and wish to attend the FACOSH meeting should contact Veneta Chatmon, at the address above, at least seven days before the meeting.

Public Participation—Submissions and Access to Official Meeting Record:

You may submit comments and requests to speak (1) electronically, (2) by facsimile, or (3) by hard copy. All submissions, including attachments and other materials, must identify the Agency name and the OSHA docket number for this notice (Docket No. OSHA-2007-0010). You may supplement electronic submissions by uploading documents electronically. If, instead, you wish to submit hard copies of supplementary documents, you must submit three copies to the OSHA Docket Office using the instructions in the ADDRESSES section above. The additional materials must clearly identify your electronic submission by name, date and docket number.

Because of security-related procedures, the use of regular mail may cause a significant delay in the receipt of submissions. For information about security procedures concerning the delivery of submissions by hand, express delivery, messenger or courier service, please contact the OSHA Docket Office at (202) 693-2350 (TTY (877) 889-5627).

Meeting transcripts and minutes as well as submissions in response to this Federal Register notice are included in the official record of the FACOSH meeting (Docket No. OSHA-2007-0010). Submissions are posted without change at: http://www.regulations.gov. Therefore, OSHA cautions interested parties about submitting personal information such as social security numbers and birth dates. Although all submissions are listed in the http://www.regulations.gov index, some documents (e.g., copyrighted material) are not publicly available to read or download through http://www.regulations.gov. All submissions, including copyrighted material, are available for inspection and copying at the OSHA Docket Office.

Exhibits referenced in this Federal Register notice are included in Docket No. OSHA-2007-0010, which is the “Docket ID” number in http://www.regulations.gov. Exhibit numbers are listed at the beginning of the title of the specific document in the http://www.regulations.gov index (see “Document Title” column).

Information on using the http://www.regulations.gov Website to make submissions and to access the docket and exhibits is available at the Website's User Tips link. Contact the OSHA Docket Office for information about materials not available through the Website and for assistance in using the Internet to locate submissions and other documents in the docket. Electronic copies of this Federal Register notice are available at: http://www.regulations.gov. This notice, as well as news releases and other relevant information, is also available at OSHA's Webpage at: http://www.osha.gov.

Authority and Signature: Edwin G. Foulke, Jr., Assistant Secretary of Labor for Occupational Safety and Health, directed the preparation of this notice under the authority granted by section 19 of the Occupational Safety and Health Act of 1970 (OSH Act) (29 U.S.C. 668), 5 U.S.C. 7902, section 1-5 of Executive Order 12196, the Federal Advisory Committee Act (5 U.S.C. App.2) and Secretary of Labor's Order No. 2-2002 (67 FR 65008).

Signed at Washington, DC, this 12th day of February, 2007.
Edwin G. Foulke, Jr.,
Assistant Secretary of Labor.

[FR Doc. E7-2674 Filed 2-14-07; 8:45 am]

BILLING CODE 4510-26-P